OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between February 1, 2007, and February 28, 2007. Future notices will be published on the fourth Tuesday of each month, or as soon as possible thereafter. A consolidated listing of all authorities as of June 30 is published each year.

Schedule A

No Schedule A appointments were approved for February 2007.

Schedule B

No Schedule B appointments were approved for February 2007.

Schedule C

The following Schedule C appointments were approved during February 2007.

Section 213.3304 Department of State

DSGS61201 Public Affairs Specialist to the Assistant Secretary Oceans, International Environment and Science Affairs. Effective February 01, 2007.

DSGS61208 Legislative Management Officer (Staff Director) to the Assistant Secretary for Legislative and Intergovernmental Affairs. Effective February 01, 2007.

DSGS61192 Staff Assistant to the Assistant Secretary, Bureau of International Narcotics and Law Enforcement Affairs. Effective February 02, 2007.

DSGS61212 Special Assistant to the Women's Human Rights Coordinator. Effective February 02, 2007.

DSGS61191 Staff Assistant to the Assistant Secretary Bureau of International Narcotics and Law Enforcement Affairs. Effective February 08, 2007.

DSGS61211 Protocol Officer (Visits) to the Chief of Protocol. Effective February 08, 2007.

Section 213.3305 Department of the Treasury

DYGS00844 Public Affairs Specialist to the Director, Public Affairs. Effective February 02, 2007.

DYGS00844 Public Affairs Specialist to the Director, Public Affairs. Effective February 02, 2007.

DYGS00230 Public Affairs Specialist to the Director, Public Affairs. Effective February 09, 2007.

DYGS00485 Executive Secretary Officer to the Executive Secretary. Effective February 09, 2007.

DYGS00483 Senior Advisor to the Assistant Secretary (Terrorist Financing). Effective February 14, 2007.

DYGS00486 Special Assistant for Advance to the Director of Strategic Planning, Scheduling and Advance. Effective February 16, 2007.

DYGS00487 Deputy Executive Secretary to the Executive Secretary. Effective February 23, 2007.

Section 213. 3306 Department of Defense

DDGS17010 Public Affairs Specialist to the Assistant Secretary of Defense, Public Affairs. Effective February 09, 2007.

DDGS17014 Public Affairs Specialist to the Assistant Secretary of Defense, Public Affairs. Effective February 21, 2007.

DDGS17025 Staff Specialist to the Under Secretary of Defense (Acquisition, Technology, and Logistics). Effective February 28, 2007.

Section 213.3309 Department of the Air Force

DFGS01060 Special Assistant to the Principal Deputy Assistant Secretary (Financial Management). Effective February 08, 2007.

DFGS00003 Secretary to the Principal Deputy Assistant Secretary (Financial Management). Effective February 15, 2007.

Section 213.3307 Department of the Army

DWGS60029 Special Assistant to the Army General Counsel. Effective February 02, 2007.

Section 213.3310 Department of Justice

DJGS00221 Chief of Staff to the Assistant Attorney General for Justice Programs. Effective February 08, 2007.

DJGS00364 Senior Press Assistant to the Director, Office of Public Affairs. Effective February 08, 2007.

Section 213.3311 Department of Homeland Security

DMGS00627 Counselor to the Director, Office of Counternarcotics Enforcement. Effective February 01, 2007.

DMGS00628 Director, Homeland Security Information Network to the Deputy Chief of Staff. Effective February 01, 2007.

DMGS00631 Advisor to the Administrator and Deputy Administrator to the Under Secretary for Federal Emergency Management. Effective February 08, 2007.

DMGS00632 Component Liaison and Correspondence Analyst to the Executive Secretary. Effective February 08, 2007.

DMGS00633 Counselor to the Secretary to the Chief of Staff. Effective February 13, 2007.

DMGS00623 Associate Director of Strategic Communications for Outreach to the Director of Strategic Communications. Effective February 15, 2007.

DMGS00634 Advisor to the Chief Medical Officer. Effective February 16, 2007.

DMGS00638 Special Assistant and Travel Aide to the Under Secretary for Federal Emergency Management. Effective February 16, 2007.

DMGS00640 Director of External Affairs and Communications to the Under Secretary for Federal Emergency Management. Effective February 21, 2007.

DMGS00636 Coordinator for Senior Executive Actions to the Executive Secretary. Effective February 22, 2007.

Section 213.3312 Department of the Interior

DIGS01096 Press Secretary to the Director, Office of Communications. Effective February 05, 2007.

DIGS01095 Special Assistant to the White House Liaison. Effective February 08, 2007.

DIGS60134 Chief, Congressional and Legislative Affairs Office to the Deputy Commissioner (Director of External and Intergovernmental Affairs). Effective February 09, 2007.

DIGS79004 Special Assistant (Communication) to the Deputy Commissioner (Director of External and Intergovernmental Affairs). Effective February 14, 2007.

DIGS07001 Special Assistant to the Director, Bureau of Land Management. Effective February 15, 2007.

DIGS01097 Director, Take Pride In America to the Director, External and Intergovernmental Affairs. Effective February 22, 2007.

DIGS60135 Special Assistant (Congressional and Legislative Affairs) to the Chief, Congressional and Legislative Affairs Office. Effective February 26, 2007.

Section 213.3313 Department of Agriculture

DAGS00876 Deputy Director of Advance to the Director of Communications. Effective February 02, 2007.

DAGS00878 Staff Assistant to the Deputy Under Secretary, Research, Education and Economics. Effective February 02, 2007.

DAGS00877 Confidential Assistant to the Deputy Assistant Secretary. Effective February 08, 2007.

DAGS00879 Confidential Assistant to the Deputy Under Secretary for Marketing and Regulatory Programs. Effective February 08, 2007.

DAGS00880 Confidential Assistant to the Administrator, Farm Service Agency. Effective February 08, 2007.

DAGS00881 Legislative Analyst to the Under Secretary for Food Nutrition and Consumer Services. Effective February 16, 2007.

Section 213.3314 Department of Commerce

DCGS00409 Special Assistant to the Secretary. Effective February 02, 2007.

DCGS00600 Director, Office of Public and Constituent Affairs to the Under Secretary, Oceans and Atmosphere (Administrator National Oceanic and Atmospheric Administration). Effective February 02, 2007.

DCGS00517 Director, Congressional and Public Affairs to the Under Secretary of Commerce for Industry and Security. Effective February 12, 2007.

Section 213.3315 Department of Labor

DLGS60180 Senior Legislative Officer to the Assistant Secretary for Congressional and Intergovernmental Affairs. Effective February 08, 2007.

DLGS60154 Senior Intergovernmental Officer to the Assistant Secretary for Congressional and Intergovernmental Affairs. Effective February 09, 2007.

DLGS60235 Legislative Assistant to the Assistant Secretary for Congressional and Intergovernmental Affairs. Effective February 14, 2007.

DLGS60262 Special Assistant to the Assistant Secretary for Employment Standards. Effective February 14, 2007.

DLGS60215 Special Assistant to the Assistant Secretary for Occupational Safety and Health. Effective February 15, 2007.

DLGS60138 Chief of Staff to the Assistant Secretary for Mine Safety and Health. Effective February 16, 2007.

DLGS60232 Special Assistant to the Assistant Secretary for Administration and Management. Effective February 16, 2007.

DLGS60142 Special Assistant to the Chief of Staff. Effective February 26, 2007.

DLGS60212 Special Assistant to the Director, Office of Faith Based and Community Initiatives. Effective February 26, 2007.

Section 213.3316 Department of Health and Human Services

DHGS60043 Deputy Assistant Secretary for Planning and Evaluation Human Services Policy to the Assistant Secretary for Planning and Evaluation. Effective February 01, 2007.

DHGS60045 Associate Director, Temporary Assistance for Needy Families to the Director, Office of Family Assistance. Effective February 01, 2007.

DHGS60047 Special Assistant to the Deputy Assistant Secretary for Public Affairs (Media). Effective February 09, 2007.

DHGS60049 Special Assistant to the Assistant Secretary, Health. Effective February 09, 2007.

DHGS60046 Senior Speech Writer to the Assistant Secretary for Public Affairs. Effective February 14, 2007.

DHGS60050 Confidential Assistant to the Associate Commissioner, Head Start Bureau. Effective February 14, 2007.

DHGS60048 Special Assistant to the Deputy Assistant Secretary for Public Affairs (Media). Effective February 20, 2007.

Section 213.3317 Department of Education

DBGS00594 Confidential Assistant to the Press Secretary. Effective February 01, 2007.

DBGS00583 Confidential Assistant to the Senior Advisor to the Under Secretary. Effective February 08, 2007.

DBGS00591 Confidential Assistant to the Press Secretary. Effective February 08, 2007.

DBGS00593 Special Assistant to the Press Secretary. Effective February 08, 2007.

DBGS00490 Deputy Assistant Secretary for Media Relations and Strategic Communications to the Assistant Secretary, Office of Communications and Outreach. Effective February 14, 2007.

DBGS00592 Special Assistant to the Press Secretary. Effective February 14, 2007.

DBGS00597 Confidential Assistant to the Assistant Deputy Secretary. Effective February 14, 2007.

DBGS00600 Special Assistant to the General Counsel. Effective February 15, 2007.

DBGS00601 Special Assistant to the Director, Intergovernmental Affairs. Effective February 28, 2007.

DBGS00602 Confidential Assistant to the Deputy Assistant Secretary for Communications and Outreach. Effective February 28, 2007.

Section 213.3303 Office of Management and Budget

BOGS70008 Deputy to the Associate Director for Legislative Affairs (House). Effective February 22, 2007.

Section 213.3303 Office of National Drug Control Policy

QQGS70003 Deputy Chief of Staff to the Chief of Staff. Effective February 05, 2007.

Section 213.3303 Office of the United States Trade Representative

TNGS70003 Confidential Assistant to the Deputy United States Trade Representative. Effective February 26, 2007.

Section 213.3303 Presidents Commission on White House Fellowships

WHGS00020 Staff Assistant to the Associate Director. Effective February 22, 2007.

Section 213.3323 Federal Communications Commission

FCGS07052 Bureau Chief to the Chairman. Effective February 16, 2007.

Section 213.3330 Securities and Exchange Commission

SEOT60004 Director of Legislative Affairs to the Chairman. Effective February 26, 2007.

Section 213.3331 Department of Energy

DEGS00561 Senior Advisor to the Deputy Secretary of Energy. Effective February 08, 2007.

DEGS00562 Senior Policy Advisor to the Associate Director for System Operations and External Relations. Effective February 08, 2007.

DEGS00564 Special Assistant to the Principal Deputy Assistant Secretary. Effective February 15, 2007.

DEGS00568 Special Assistant for Communications to the Director, Office of Electricity Delivery and Energy Reliability. Effective February 16, 2007.

DEGS00569 Transmission Sitting Analyst to the Director, Office of Electricity Delivery and Energy Reliability. Effective February 16, 2007.

DEGS00056 Special Program Assistant to the Assistant Secretary of Energy (Nuclear Energy). Effective February 26, 2007.

DEGS00570 Senior Policy Advisor to the Assistant Secretary of Energy (Environmental Management). Effective February 28, 2007.

Section 213.3331 Federal Energy Regulatory Commission

DRGS17039 Confidential Assistant to the Member-Federal Energy Regulatory Commission. Effective February 16, 2007.

Section 213.3332 Small Business Administration

SBGS00610 Senior Advisor to the Associate Administrator for Capital Access. Effective February 08, 2007.

SBGS00611 Senior Advisor to the Associate Administrator for Field Operations. Effective February 08, 2007.

Section 213.3337 General Services Administration

GSGS00186 Confidential Assistant to the Associate Administrator for Performance Improvement. Effective February 08, 2007.

GSGS60131 Director of Strategic Communications to the Deputy Associate Administrator for Communications. Effective February 09, 2007.

GSGS60126 Deputy Associate Administrator for Communications to the Associate Administrator for Citizen Services and Communications. Effective February 16, 2007.

Section 213.3339 United States International Trade Commission

TCGS00007 Staff Assistant (Legal) to a Commissioner. Effective February 08, 2007.

TCGS00037 Staff Assistant (Legal) to the Chairman. Effective February 08, 2007.

Section 213.3348 National Aeronautics and Space Administration

NNGS00176 Deputy Press Secretary/Public Affairs Specialist to the Assistant Administrator for Public Affairs. Effective February 06, 2007.

Section 213.3353 Merit Systems Protection Board

MPSL00001 Chief Counsel to the Vice Chairman. Effective February 09, 2007.

Section 213.3357 National Credit Union Administration

CUOT01317 Senior Policy Advisor to the Chairman. Effective February 08, 2007.

Section 213.3384 Department of Housing and Urban Development

DUGS60467 Staff Assistant to the Assistant Secretary for Community Planning and Development. Effective February 08, 2007.

Section 213.3394 Department of Transportation

DTGS60342 Special Assistant for Scheduling and Advance to the Director for Scheduling and Advance. Effective February 01, 2007.

DTGS60197 Confidential Assistant to the Chief of Staff. Effective February 02, 2007.

DTGS60159 Special Assistant to the Associate Administrator for Policy and Governmental Affairs. Effective February 15, 2007.

DTGS60194 Special Assistant to the Administrator. Effective February 15, 2007.

Section 213.3396 National Transportation Safety Board

TBGS61518 Special Assistant to the Vice Chairman. Effective February 16, 2007.

Authority: 5 U.S.C. 3301 and 3302; E.O. 10577, 3 CFR 1954-1958 Comp., p. 218.

Office of Personnel Management.
Tricia Hollis,
Chief of Staff/Director of External Affairs.

[FR Doc. E7-5778 Filed 3-28-07; 8:45 am]

BILLING CODE 6325-39-P